DEPARTMENT OF COMMERCE

National Oceanic and Atmospheric Administration

RIN 0648-XG499

Endangered Species; File No. 22218

AGENCY: National Marine Fisheries Service (NMFS), National Oceanic and Atmospheric Administration (NOAA), Commerce.

ACTION: Notice; receipt of application.

SUMMARY: Notice is hereby given that the NMFS Northeast Fisheries Science Center, 166 Water Street, Woods Hole, MA 02543 [Responsible Party: Dr. Jon Hare], has applied in due form for a permit to take green (Chelonia mydas), Kemp's ridley (Lepidochelys kempii), leatherback (Dermochelys coriacea), loggerhead (Caretta caretta), and unidentified hardshell sea turtles for purposes of scientific research.

DATES: Written, telefaxed, or email comments must be received on or before November 8, 2018.

ADDRESSES: The application and related documents are available for review by selecting “Records Open for Public Comment” from the “Features” box on the Applications and Permits for Protected Species (APPS) home page, https://apps.nmfs.noaa.gov, and then selecting File No. 22218 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Erin Markin, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a 10-year permit to conduct research on sea turtles in the Northwest Atlantic Ocean in its coastal and estuarine environments from North Carolina to Maine and international waters. The objectives of the research are to (1) identify sea turtle stocks and breeding population origins for juvenile through adult life stages, (2) improve knowledge of sea turtle life history, vital rates, and sex ratios, (3) identify important marine habitats, (4) estimate sea turtle distribution and abundance, (5) assess anthropogenic impacts to sea turtles, and (6) provide data to assist in agency mitigation and monitoring efforts. Researchers request 100 takes of each species and 75 unidentified sea turtles annually for harassment during aerial (manned and unmanned) and vessel surveys for sighting, counting, and monitoring animals and methods that do not result in capture—remote scanning for PIT tags, remote suction cup tagging, observation, photography, photogrammetry, and tracking. Researchers request to capture (by hand, dip net, cast net, encirclement net, hoop net or seine) or obtain from other legal sources up to 74 green, 90 Kemp's ridley, 72 leatherback, one unidentified, and 115 loggerhead sea turtles annually for study; each animal may be recaptured two times a year for monitoring and removing gear. These animals may be observed via manned and unmanned aircraft prior to capture, and examined, measured, marked, biologically sampled, and have up to two transmitters attached prior to release. Animals may be temporarily observed via a remotely operated vehicle underwater after release. Sea turtle parts, tissues and carcasses from 500 animals annually may be received, imported or exported for study.

Dated: October 3, 2018.
Julia Marie Harrison,
Chief, Permits and Conservation Division, Office of Protected Resources, National Marine Fisheries Service.

[FR Doc. 2018-21852 Filed 10-5-18; 8:45 am]

BILLING CODE 3510-22-P